DEPARTMENT OF DEFENSE

Department of the Army, Corps of Engineers

Intent To Prepare a Draft Environmental Impact Statement (DEIS) for Missouri River Flood Plain Developments Between Missouri River Miles 29.6 to 38.4, St. Louis County, Missouri

AGENCY: U.S. Army Corps of Engineers, St. Louis District, DOD.

ACTION: Notice of intent.

SUMMARY: St. Louis District, U.S. Army Corps of Engineers (SLD) is issuing this notice that an Environmental Impact Statement (EIS) will be prepared to address cumulative and future impacts to the Missouri River flood plain, resulting from permitted actions evaluated under Section 404 of the Clean Water Act. The study area is from approximate Missouri River mile 29.6 to 38.4, along the right descending bank of the Missouri River in St. Louis County, Missouri. Most of this area of flood plain is currently protected by the Howard Bend Levee, which connects to the Riverport Levee. No pending regulatory permits are required at this time for proposed development projects within this area. However, it is the intent of SLD to prepare an EIS to address the cumulative impacts that have occurred to the aquatic resources in this area from permitted activities, as well as to address the impacts to the environment for several large projects forecast in the future, that may require Section 404 permits.

ADDRESSES: U.S. Army Corps of Engineers, St. Louis District, Construction-Operations Readiness Division, Regulatory Branch, 1222 Spruce Street, St. Louis, MO 63103-2833.

FOR FURTHER INFORMATION CONTACT: Mr. Danny McClendon, (314) 331-8580 or Danny D. Mcclendon@mvs02.usace.army.mil

SUPPLEMENTARY INFORMATION: During the last 25 years, the Missouri River flood plain between approximate Missouri River miles 27.0 (Earth City Levee) and 47.0 (Monarch-Chesterfield Levee) in St. Louis County, Missouri, has been subjected to extensive levee construction and development for agricultural, industrial, and commercial purposes. These activities have impacted the aquatic environment and fish and wildlife resources in this reach of flood plain. Construction of the Earth City Levee to a 500-year level of protection in 1972, construction of the Riverport Levee to a 500-year level of protection in 1988, reconstruction and recertification of the Monarch-Chesterfield Levee to a 100-year level of protection in 1997 and current proposal to raise this levee to a 500+-year level of protection, reconstruction of a portion of the Howard Bend Levee to a 100-year level of protection in 1966 and current proposal to raise this levee to a 500+-year level of protection, current construction of the Page Avenue Extension Project, and resultant commercial and industrial development and agricultural conversions has resulted in a disjointed analysis of natural resource impacts in relation to Section 404 of the Clean Water Act. Prior to February 1995, the regulatory responsibility for Section 404 permits in the Missouri River flood plain in St. Louis County, Missouri were with the Kansas City District, Corps of Engineers (KCD). As of February 1, 1995, this responsibility was transferred to the St. Louis District, Corps of Engineers (SLD). The Earth City Levee, Riverport Levee, and Page Avenue Extension Project involved legal challenges, which resulted in certain limitations and special conditions for future Corps permit actions. In addition, KCD recognized the piecemeal development of the levee protected areas within the Monarch-Chesterfield flood plain and placed a moratorium on individual developments without the preparation of an environmental analysis. The SLD continued this moratorium on development in the protected areas within the Monarch-Chesterfield flood plain until late 1996 and late 1997, upon which time the SLD issued Section 404 permits for the remaining wetlands within the levee protected area based upon two consolidated permit applications and environmental analysis. Large-scale mitigation was required for these permit actions. In 1997, the SLD initiated a study to determine the feasibility of raising the Monarch-Chesterfield Levee. The SLD is currently preparing an EIS for this project. In addition, the Missouri Department of Transportation completed an EIS for the Page Avenue Extension Project in 1992, and the National Park Service completed a Supplemental EIS for the Page Avenue Extension Project in 1995. Therefore, the scope of this current EIS will focus on the section of Missouri River flood plain between the Monarch-Chesterfield Levee and Interstate 70, and a north/south connector road corridor running through the Howard Bend flood plain, with a beginning point at Interstate 70 and a terminus at Olive Boulevard, between Route 141 (Woods Mill Road) and Creve Coeur Mill Road (to be known at the Howard Bend Flood Plain EIS). This EIS will not reevaluate the Page Avenue Extension Project, the Monarch-Chesterfield Levee Project, the Riverport or Earth City Levees, or any other previously approved or permitted projects by the Corps of Engineers located in the study area. However, the EIS will take into account the cumulative and secondary impacts of these projects on the remaining aquatic resources within the study area, and address any special conditions or requirements of these previous projects.

Alternatives

The Corps of Engineers has 3 alternative courses of action available:

1. The “no action” alternative would be to not grant any future Section 404 permits within the study area.

2. Continue to process Section 404 permit applications on a case-by-case basis for future developments within the Howard Bend Flood Plain study area, without developing a Strategic Area Management Plan (SAMP).

3. Evaluate the environmental effects of future developments within the Howard Bend Flood Plain study area leading to the development of a Strategic Area Management Plan (SAMP) to address the cumulative and secondary impacts of developments in this area, and develop a comprehensive plan to protect or mitigate important aquatic resources due to permitted activities.

Scoping and Public Involvement

Public involvement will be sought during scoping and conduct of the study in accordance with NEPA procedures. A public scoping process will help to clarify issues of major concern, identify any information sources that might be available to analyze and evaluate impacts, and obtain public input on the range and acceptability of alternatives. The Notice of Intent formally commences the scoping process under NEPA. As part of the scoping process, all Federal, State and local agencies, Indian Tribes, and other interested private organizations, including environmental groups, are invited to comment on the scope of the EIS. Comments are requested concerning project alternatives, mitigation measures, probable significant environmental impacts and permits or other approvals that may be required.

Key areas to be analyzed in-depth in the draft EIS will include the flood plain, wetlands, water quality, fisheries, wildlife, parks, infrastucture, cultural resources, socioeconomic resources, recreation, transportation, and cumulative and secondary enviromental impacts.

Other Environmental Review and Coodination Requirements

All review and coordination requirements will be fulfilled via this NEPA process. On-going permit actions and studies are continually coordinated with agencies and interested publics.

Scoping Meeting

A scoping meeting for this EIS will be held in conjunction with a public workshop that will be held in March 2000. The exact date has not been set and can be requested by calling (314) 331-8580.

Availability of Draft EIS

The draft EIS is scheduled for release in late 2000 to early 2001.

Michael R. Morrow,
COL, EN, Commanding.

[FR Doc. 00-1823 Filed 1-25-00; 8:45 am]

BILLING CODE 3710-GS-M